DEPARTMENT OF HOMELAND SECURITY

Coast Guard

33 CFR Part 117

[USCG-2008-0896]

Drawbridge Operation Regulation; Long Island, New York Inland Waterway From East Rockaway Inlet to Shinnecock Canal, Nassau County, NY, Maintenance

AGENCY: Coast Guard, DHS.

ACTION: Notice of temporary deviation from regulations.

SUMMARY: The Commander, First Coast Guard District, has issued a temporary deviation from the regulations governing the operation of the Loop Parkway Bridge, mile 0.7, across Long Creek, Nassau County, New York. Under this temporary deviation the bridge may remain in the closed position for three hours on two days to facilitate bridge maintenance.

DATES: This deviation is effective from 8:20 a.m. on September 22, 2008 through 11:20 a.m. on September 30, 2008.

ADDRESSES: Documents indicated in this preamble as being available in the docket are part of docket USCG-2008-0896 and are available online at www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: If you have questions on this proposed rule, call Judy Leung-Yee, Project Officer, First Coast Guard District, at (212) 668-7165. If you have questions on viewing the docket, call Renee V. Wright, Program Manager, Docket Operations, telephone (202) 366-9826.

SUPPLEMENTARY INFORMATION: The Loop Parkway Bridge, across Long Creek at mile 0.7, at Nassau County, New York, has a vertical clearance in the closed position of 21 feet at mean high water and 25 feet at mean low water. The existing drawbridge operation regulations are listed at 33 CFR 117.799(f).

The waterway has seasonal recreational vessels and fishing vessels of various sizes. The facilities were notified regarding this closure and no objections were received.

The owner of the bridge, New York State Department of Transportation, requested a temporary deviation to facilitate electrical maintenance at the bridge.

Under this temporary deviation the Loop Parkway Bridge at mile 0.7, across Long Creek, may remain in the closed position between 8:20 a.m. and 11:20 a.m. on September 22, 2008 and September 23, 2008. In the event of inclement weather the alternate rain dates are September 29, 2008 and September 30, 2008. Vessels that can pass under the bridge without a bridge opening may do so at all times.

In accordance with 33 CFR 117.35(e), the bridge must return to its regular operating schedule immediately at the end of the designated time period. This deviation from the operating regulations is authorized under 33 CFR 117.35.

Dated: September 11, 2008.
Gary Kassof,
Bridge Program Manager, First Coast Guard District.

[FR Doc. E8-22156 Filed 9-22-08; 8:45 am]

BILLING CODE 4910-15-P